DEPARTMENT OF ENERGY

Federal Energy Regulatory Commission

Combined Notice of Filings #1

Take notice that the Commission received the following electric corporate filings:

Docket Numbers: EC14-86-000.

Applicants: NM Neptune, LLC, Starwood Energy Investors, L.L.C.

Description: Application for Authorization for Disposition of Jurisdictional Facilities and Request for Expedited Action of NM Neptune, LLC, et. al.

Filed Date: 5/12/14.

Accession Number: 20140512-5252.

Comments Due: 5 p.m. ET 6/2/14.

Take notice that the Commission received the following electric rate filings:

Docket Numbers: ER14-354-001.

Applicants: Florida Power & Light Company.

Description: Florida Power & Light Company's Compliance Filing to the April 17, 2014 Order to be effective 1/13/2014.

Filed Date: 5/12/14.

Accession Number: 20140512-5223.

Comments Due: 5 p.m. ET 6/2/14.

Docket Numbers: ER14-1225-000; ER14-1225-001.

Applicants: Southwest Power Pool, Inc.

Description: Unopposed Stipulation and Offer of Settlement with Pro Forma Tariff Sheets of Southwest Power Pool, Inc.

Filed Date: 5/7/14.

Accession Number: 20140507-5203.

Comments Due: 5 p.m. ET 5/28/14.

Docket Numbers: ER14-1348-002.

Applicants: The Dow Chemical Company.

Description: Second Amendment to Petition (TDCC) to be effective 2/21/2014.

Filed Date: 5/13/14.

Accession Number: 20140513-5032.

Comments Due: 5 p.m. ET 6/3/14.

Docket Numbers: ER14-1349-002.

Applicants: Union Carbide Corporation.

Description: Second Amendment to Petition (UCC) to be effective 2/21/2014.

Filed Date: 5/13/14.

Accession Number: 20140513-5033.

Comments Due: 5 p.m. ET 6/3/14.

Docket Numbers: ER14-1944-000.

Applicants: Duke Energy Ohio, Inc.

Description: Amendment to RS 66 to be effective 5/1/2014.

Filed Date: 5/13/14.

Accession Number: 20140513-5049.

Comments Due: 5 p.m. ET 6/3/14.

Docket Numbers: ER14-1945-000.

Applicants: Duke Energy Conesville, LLC.

Description: Amendment to Reactive to be effective 5/1/2014.

Filed Date: 5/13/14.

Accession Number: 20140513-5051.

Comments Due: 5 p.m. ET 6/3/14.

Docket Numbers: ER14-1946-000.

Applicants: PJM Interconnection, L.L.C.

Description: First Revised Service Agreement No. 3329; Queue No. X1-049 to be effective 4/15/2014.

Filed Date: 5/13/14.

Accession Number: 20140513-5052.

Comments Due: 5 p.m. ET 6/3/14.

Docket Numbers: ER14-1947-000.

Applicants: Duke Energy Dicks Creek, LLC.

Description: Amendment to Reactive to be effective 5/1/2014.

Filed Date: 5/13/14.

Accession Number: 20140513-5053.

Comments Due: 5 p.m. ET 6/3/14.

Docket Numbers: ER14-1948-000.

Applicants: Duke Energy Killen, LLC.

Description: Amendment to reactive to be effective 5/1/2014.

Filed Date: 5/13/14.

Accession Number: 20140513-5055.

Comments Due: 5 p.m. ET 6/3/14.

Docket Numbers: ER14-1949-000.

Applicants: Duke Energy Miami Fort, LLC.

Description: Amendment to Reactive to be effective 5/1/2014.

Filed Date: 5/13/14.

Accession Number: 20140513-5057.

Comments Due: 5 p.m. ET 6/3/14.

Docket Numbers: ER14-1950-000.

Applicants: Duke Energy Stuart, LLC.

Description: Amendment to reactive to be effective 5/1/2014.

Filed Date: 5/13/14.

Accession Number: 20140513-5058.

Comments Due: 5 p.m. ET 6/3/14.

Docket Numbers: ER14-1951-000.

Applicants: Duke Energy Zimmer, LLC.

Description: Amendment to Reactive to be effective 5/1/2014.

Filed Date: 5/13/14.

Accession Number: 20140513-5059.

Comments Due: 5 p.m. ET 6/3/14.

Take notice that the Commission received the following electric securities filings:

Docket Numbers: ES14-39-000.

Applicants: MidAmerican Energy Company.

Description: Amendment to April 25, 2014 Application of MidAmerican Energy Company under Section 204 of the Federal Power Act for Authorization to Issue and Sell Debt Securities.

Filed Date: 5/12/14.

Accession Number: 20140512-5251.

Comments Due: 5 p.m. ET 5/22/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 13, 2014.
Nathaniel J. Davis, Sr.,
Deputy Secretary.

[FR Doc. 2014-11701 Filed 5-20-14; 8:45 am]

BILLING CODE 6717-01-P